DEPARTMENT OF HOMELAND SECURITY

Coast Guard

33 CFR Part 117

[Docket No. USCG-2017-0292]

Drawbridge Operation Regulation; Arthur Kill, Staten Island, NY & Elizabeth, NJ

AGENCY: Coast Guard, DHS.

ACTION: Notice of deviation from drawbridge regulation.

SUMMARY: The Coast Guard has issued a temporary deviation from the operating schedule that governs the Arthur Kill (AK) Railroad Bridge across the Arthur Kill, mile 11.6, at Staten Island, New York and Elizabeth, New Jersey. This temporary deviation is necessary to allow the bridge to remain in the closed-to-navigation position to facilitate structural inspections.

DATES: This deviation is effective from 9:45 a.m. on July 8, 2017 to 8:07 p.m. on July 16, 2017.

ADDRESSES: The docket for this deviation, [USCG-2017-0292] is available at http://www.regulations.gov. Type the docket number in the “SEARCH” box and click “SEARCH”. Click on Open Docket Folder on the line associated with this deviation.

FOR FURTHER INFORMATION CONTACT: If you have questions on this temporary deviation, call or email Judy Leung-Yee, Project Officer, First Coast Guard District, telephone (212) 514-4330, email judy.k.leung-yee@uscg.mil.

SUPPLEMENTARY INFORMATION: The Consolidated Rail Corporation (Conrail), the owner of the bridge, requested a temporary deviation from the normal operating schedule to facilitate structural inspections. The Arthur Kill Railroad Bridge across the Arthur Kill, mile 11.6, has a vertical clearance in the closed position of 31 feet at mean high water and 35 feet at mean low water. The existing bridge operating regulations are found at 33 CFR 117.702.

Under this temporary deviation, the Arthur Kill Railroad Bridge shall remain in the closed position as follows:

July 8, 2017:

9:45 a.m. to 1:46 p.m.

3:46 p.m. to 7:53 p.m.

July 9, 2017:

10:24 a.m. to 2:27 p.m.

4:27 p.m. to 8:27 p.m.

July 15, 2017:

8:17 a.m. to 12:26 p.m.

2:26 p.m. to 6:52 p.m.

July 16, 2017:

9:13 a.m. to 1:15 p.m.

3:15 p.m. to 8:07 p.m.

The waterway is transited by commercial traffic. The Coast Guard notified various companies of the commercial oil and barge vessels and they have no objections to the temporary deviation. Vessels able to pass under the bridge in the closed position may do so at any time. The bridge will not be able to open for emergencies and there is no immediate alternate route for vessels to pass.

The Coast Guard will inform the users of the waterways through our Local Notice and Broadcast to Mariners of the change in operating schedule for the bridge so that vessel operations can arrange their transits to minimize any impact caused by the temporary deviation.

In accordance with 33 CFR 117.35(e), the drawbridge must return to its regular operating schedule immediately at the end of the effective period of this temporary deviation. This deviation from the operating regulations is authorized under 33 CFR 117.35.

Dated: April 20, 2017.
C.J. Bisignano,
Supervisory Bridge Management Specialist, First Coast Guard District.

[FR Doc. 2017-08316 Filed 4-24-17; 8:45 am]

BILLING CODE 9110-04-P